DEPARTMENT OF DEFENSE

Department of the Air Force

Record of Decision for the B-21 Main Operating Base 2 or 3 Beddown at Dyess AFB, Texas or Whiteman AFB, Missouri Environmental Impact Statement

AGENCY: Department of the Air Force, Department of Defense.

ACTION: Notice of availability of record of decision.

SUMMARY: On October 3, 2024, the Department of the Air Force (DAF) signed the Record of Decision (ROD) for the Environmental Impact Statement B-21 Beddown Main Operating Base 2 (MOB 2) or Main Operating Base 3 (MOB 3) at Dyess AFB, Texas or Whiteman AFB, Missouri.

ADDRESSES: Mr. Christopher Moore, AFCEC/CIE, 2261 Hughes Avenue, Suite 155, JBSA-Lackland Air Force Base, Texas 78236-9853, (325) 696-4820, christopher.moore.114@us.af.mil.

SUPPLEMENTARY INFORMATION: The DAF will beddown the B-21 MOB 2 under the USAF Global Strike Command at Whiteman AFB, Missouri and beddown the B-21 MOB 3 at Dyess AFB, Texas. The B-21 MOB 2 beddown at Whiteman AFB will establish the B-21 Operations Squadrons, new infrastructure, and would increase numbers of support and operations personnel. The B-21 MOB 3 beddown at Dyess AFB will establish B-21 Operations Squadrons, a Weapons Generation Facility, Weapons Instructor Course, Operations Test and Evaluation squadron, new infrastructure, and would increase numbers of support and operations personnel.

The DAF decision documented in the ROD was based on matters discussed in the Final Environmental Impact Statement, inputs from Native American Tribes, members of the public, and regulatory agencies, and other relevant factors. The Final Environmental Impact Statement was made available to the public on May 24, 2024 through a Notice of Availability in the Federal Register (Volume 89, Number 102, page 45883) with a waiting period that ended on June 24, 2024.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2024-27538 Filed 11-25-24; 8:45 am]

BILLING CODE 3911-44-P